DEPARTMENT OF HEALTH AND HUMAN SERVICES

Centers for Disease Control and Prevention

[30Day-23-1204]

Agency Forms Undergoing Paperwork Reduction Act Review

In accordance with the Paperwork Reduction Act of 1995, the Centers for Disease Control and Prevention (CDC) has submitted the information collection request titled “Behavioral Risk Factor Surveillance System (BRFSS) Asthma Call-back Survey (ACBS)” to the Office of Management and Budget (OMB) for review and approval. CDC previously published a “Proposed Data Collection Submitted for Public Comment and Recommendations” notice on March 6, 2023 to obtain comments from the public and affected agencies. CDC did not receive comments related to the previous notice This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to “http://www.reginfo.gov/public/doPRAMain”. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Behavioral Risk Factor Surveillance System (BRFSS) Asthma Call-back Survey (ACBS) (OMB Control No. 0920-1204, Expiration Date 11/30/2023)—Revision—National Center for Environmental Health (NCEH), Centers for Disease Control and Prevention (CDC).

Background and Brief Description

The CDC's National Center for Environmental Health (NCEH) is requesting OMB approval for three years to revise and continue the “Behavioral Risk Factor Surveillance System (BRFSS) Asthma Call-back Survey (ACBS)” (OMB Control No. 0920-1204, Expiration Date 11/30/2023). The ACBS is funded by the NCEH National Asthma Control Program (NACP) in the Asthma and Community Health Branch (ACHB) and is administered on behalf of NCEH by the CDC's National Center for Chronic Disease Prevention and Health Promotion (NCCDPHP) BRFSS Program. BRFSS coordinators in the health departments in U.S. states, territories, and the District of Columbia (collectively referred to as “states” and “jurisdictions”) are responsible for administering both the BRFSS and the ACBS.

The BRFSS (OMB Control No. 0920-1061, expiration date 12/31/2024) is a nationwide system of customized, cross-sectional telephone health surveys. The BRFSS information collection is conducted in a continuous, three-part telephone interview process: screening, participation in a common BRFSS core survey, and participation in optional question modules that states use to customize survey content. The ACBS is a follow-up survey conducted in households that include an individual who has been diagnosed with asthma. The ACBS is conducted within two days after the BRFSS survey. The purpose of ACBS is to gather state-level asthma data and to make them available to track the burden of the disease, to monitor adherence to asthma guidelines, and to direct and evaluate interventions undertaken by asthma control programs located in state health departments. Beyond asthma prevalence estimates, for most states, the ACBS provides the only source of adult and child asthma data at the state and local level.

Data collection for ACBS involves screening, obtaining permission, consenting, and telephone interviewing on a subset of the BRFSS respondents from participating states. The ACBS eligible respondents are BRFSS adults, 18 years and older, who report ever being diagnosed with asthma. In addition, some states include children, below 18 years of age, who are randomly selected subjects in the BRFSS household. Parents or guardians serve as ACBS proxy respondents for their children ever diagnosed with asthma. If both the BRFSS adult respondent and the selected child in the household have asthma, then only one or the other is eligible for the ACBS.

State BRFSS Coordinators submit de-identified data files to CDC on a monthly or quarterly basis for cleaning and weighting. The CDC BRFSS ACBS operation team returns clean, weighted data files to the state of origin for its use. The ACBS adds considerable state-level depth to the existing body of asthma data. It addresses critical questions surrounding the health and experiences of persons with asthma. Health data include symptoms, environmental factors, and medication use among persons with asthma. Data on their experiences include activity limitation, health system use, and self-management education. These asthma data are needed to direct and evaluate interventions undertaken by asthma control programs located in state health departments. Federal agencies and other entities also rely on this critical information for planning and evaluating efforts to reduce the burden of this disease. The CDC makes annual ACBS datasets available for public use and provides guidance on statistically appropriate uses of the data.

In response to the contours of 2020 Terms of Clearance, the annual joint response rates from BRFSS and ACBS were reported with the ACBS annual dataset. To communicate the caveats of state-to-state comparisons, the ACBS nonresponse bias and impact on prevalence estimation are being analyzed and reported as appendix tables of the annual data quality report released with the public use dataset for adult and child participants (https://www.cdc.gov/brfss/acbs/2020/pdf/sdq_report_acbs_20-508.pdf). The first table reports unweighted and weighted demographic distribution percentages for each participating state based on BRFSS-eligible asthma respondents, non-respondents to the ACBS, and ACBS final completes. The second table reports estimated current asthma percentage among individuals who have ever been diagnosed with asthma. These two tables will help communicate the potential impact of nonresponse bias on the ACBS published dataset.

To provide clear communication about the caveats of state-to-state comparisons, the NACP revised the tables of prevalence estimates for asthma risk factors based on ACBS and reduced the number of risk factors prevalence tables from 20 to 13. The NACP also deleted the tables (active asthma related risk factors) that didn't provide enough information for state-to-state comparisons. A footnote with a hyperlink to the nonresponse report has been incorporated into the footnote for annual ACBS risk factors prevalence tables which can be viewed at: https://www.cdc.gov/brfss/acbs/2019_tables_LLCP.html.

In addition, and also in response to the 2020 Terms of Clearance, the NACP undertook efforts to streamline the ACBS, reduce unnecessary burden, and ensure that the question wording is aligned with more recent studies. The questionnaires were re-evaluated by ACBS questionnaire working groups and the ACBS recipients. Beginning in 2024, the NACP proposes a to delete 6 questions from the adult's questionnaire and 17 questions from child's questionnaire. The adult's questionnaire will include nine new questions and the child's questionnaire will include 10 new questions. The estimated time burden for the interview will remain unchanged from that of the 2021 questionnaire (10 minutes per response). There are no proposed changes to the number of responses per respondent.

The total BRFSS sample size decreased from 476,217 in 2016 to 393,474 in 2020, and as a result of decreasing BRFSS sample size, the number of individuals eligible for the ACBS decreased from 46,100 to 41,444 during that period. The NACP proposes the following changes to the burden estimation from 2021 (based on 2016 ACBS response data) to 2024 (based on 2020 response data):

The total estimated number of responses is 57,852, which is a decrease of 10,074 from the previously approved 68,846. The total estimated annualized time burden is 6,073 hours, which is a decrease of 542 hours from the previously approved 6,615 hours. Participation in the ACBS is voluntary and there are no costs to respondents other than their time.

Estimated Annualized Burden Hours
Type of respondents | Form name | Number of respondents | Number of responses per respondent | Average burden per response (in hours)
BRFSS Adults | ACBS Landline Screener—Adult | 8,170 | 1 | 1/60
| ACBS Cell Phone Screener—Adult | 20,780 | 1 | 1/60
BRFSS Parents or Guardians of Children | ACBS Landline Screener—Child | 834 | 1 | 2/60
| ACBS Cell Phone Screener—Child | 4,109 | 1 | 2/60
ACBS Adults | ACBS Adult Consent and Survey | 20,155 | 1 | 10/60
ACBS Parents or Guardians of Children | ACBS Child Consent and Survey | 3,764 | 1 | 10/60
State BRFSS Coordinators | ACBS Adult Data Submission Layout | 40 | 12 | 155/60
| ACBS Child Data Submission Layout | 40 | 12 | 25/60

Jeffrey M. Zirger,
Lead, Information Collection Review Office, Office of Public Health Ethics and Regulations, Office of Science, Centers for Disease Control and Prevention.

[FR Doc. 2023-14412 Filed 7-6-23; 8:45 am]

BILLING CODE 4163-18-P